DEPARTMENT OF HEALTH AND HUMAN SERVICES

Centers for Disease Control and Prevention

[60Day-19-19BND; Docket No. CDC-2019-0066]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on a Generic Information Collection Request for Cognitive Testing and Pilot Testing for the National Center for Chronic Disease Prevention and Health Promotion. A generic clearance is needed to support methodological studies that improve information quality and the efficiency of information collection.

DATES: CDC must receive written comments on or before October 15, 2019.

ADDRESSES: You may submit comments, identified by Docket No. CDC-2019-0066 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7118; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Generic Information Collection Request (ICR) for Cognitive Testing and Pilot Testing for the National Center for Chronic Disease Prevention and Health Promotion (NCCDPHP)—New—National Center for Chronic Disease Prevention and Health Promotion (NCCDPHP), Centers for Disease Control and Prevention (CDC).

Background and Brief Description

CDC's National Center for Chronic Disease Prevention and Health Promotion (NCCDPHP) plans to establish a generic clearance to support information collection for cognitive testing and pilot testing activities. Information collections that support the Behavioral Risk Factor Surveillance System (BRFSS) and other NCCDPHP programs are expected to be the major focus of activity under this generic. Additional information collections may also be considered for submission through this generic clearance if they are relevant to BRFSS and NCCDPHP programs or collaborations.

Cognitive testing and pilot testing are methodological procedures conducted to prepare for a large scale or key information collection. Cognitive and pilot testing activities are designed to improve information quality and the efficiency of information collection by addressing issues such as the use of new or existing survey questions, question formatting, survey protocols, data collection software systems and other related processes.

Cognitive testing is a technique used to clarify the meaning of survey questions and/or the response options for questions. Cognitive testing contributes to the understanding of the validity and reliability of questions used for a variety of public health purposes. Cognitive testing is conducted early in the process of considering questions for use in a survey or other information collection activity. This type of testing is usually conducted in a controlled setting, such as an office setting. Respondents participate in a discussion or interview with a trained interviewer and may respond individually or as members of focus groups.

Questions may undergo cognitive testing because they have not been used in previous surveys; for example, questions related to the emergence of a new public health concern (such as e-cigarettes). In addition, testing may be conducted on previously used questions to assess their use in a different information collection mode; for example, testing might be conducted to convert questions developed for a paper survey to an interview format or an electronic survey format; or testing might be conducted to identify issues specific to a subpopulation or language translation. Respondents are asked to review questions and/or surveys to discuss their impressions of the items under consideration, the questions, the response set, individual words within the question, or the focus of the questionnaire itself. Incentives may be offered to respondents who participate in the in-person phase of cognitive testing since these activities involve additional burden and inconvenience.

Pilot testing is used to determine whether methods or modes of data collection (such as phone or mail surveys, in-person interviews or online data collection) are appropriate and efficient ways of collecting data. Pilot testing may include testing of changes in sampling or contacting potential respondents.

The majority of participants in cognitive and pilot testing activities are expected to be adults ≥18 years of age. Information may be collected during the recruitment process to assist in the selection of respondents. Respondents may be recruited to take part in testing through online or newspaper advertisements. If the participants are not recruited to be present at a physical location, they may be called and recruited by telephone.

Cognitive and pilot testing are efficient means of identifying problems with questions and procedures prior to implementation of data collection. Thus, they are cost effective approaches to providing evidence on survey questionnaire performance. A consequence of cognitive and pilot testing is to maintain high levels of participation in the information collection process itself.

Initial response and burden estimates are based on anticipated information collection needs for the BRFSS, with an additional allocation for a variety of NCCDPHP programs and collaborators. Each information collection activity conducted through this generic will be submitted to OMB for approval in a project-specific information collection request that describes its purpose and methods.

Participation in cognitive and pilot testing is voluntary, but respondents will be encouraged to participate by explanations of the need for their input in the introduction of each survey. CDC requests approval for an 8,950 burden hours annually. There are no costs to respondents other than their time.

Estimated Annualized Burden Hours
Type of respondent | Form name | Number of respondents | Number of responses per respondent | Average burden per response (in hours) | Total burden (in hrs.)
General U.S. Population or Selected Subpopulation | Screening for cognitive testing | 2,500 | 1 | 15/60 | 625
| Screening for pilot testing | 2,400 | 1 | 15/60 | 600
| Cognitive testing in person | 1,500 | 1 | 60/60 | 1,500
| Cognitive testing by phone | 1,500 | 1 | 45/60 | 1,125
| Cognitive testing by ABS/mail/web | 600 | 1 | 60/60 | 600
| Pilot testing in person | 1,000 | 1 | 30/60 | 500
| Pilot testing by phone | 3,000 | 1 | 30/60 | 1,500
| Pilot testing by ABS/mail/web | 5,000 | 1 | 30/60 | 2,500
Total |  | 17,500 |  |  | 8,950

Jeffrey M. Zirger,
Lead, Information Collection Review Office, Office of Scientific Integrity, Office of Science, Centers for Disease Control and Prevention.

[FR Doc. 2019-17289 Filed 8-12-19; 8:45 am]

BILLING CODE 4163-18-P